NUCLEAR REGULATORY COMMISSION

[NUREG-1620]

Solicitation of Comments on a Draft Standard Review Plan (NUREG-1620) for Staff Reviews of Reclamation Plans for Mill Tailings Sites Under Title II of the Uranium Mill Tailings Radiation Control Act

AGENCY: Nuclear Regulatory Commission.

ACTION: Notice of availability; Opportunity for comment.

SUMMARY: The U.S. Nuclear Regulatory Commission (NRC) is soliciting comments from interested parties on a Draft Standard Review Plan (NUREG-1620) which provides guidance for staff reviews of Reclamation Plans for uranium mill tailings sites covered by Title II of the Uranium Mill Tailings Radiation Control Act. An NRC Materials License is required, under the provisions of Title 10 of the Code of Federal Regulations, part 40 (10 CFR part 40), Domestic Licensing of Source Material, in conjunction with uranium or thorium milling, or with byproduct material at sites formerly associated with such milling.

Appendix A to part 40 establishes technical and other criteria relating to siting, operation, decontamination, decommissioning, and reclamation of mills and tailings. The licensee's site Reclamation Plan documents how the proposed activities demonstrate compliance with the criteria in Appendix A. This information, and the licensee's Environmental Report, are used by the NRC staff to determine whether the proposed activities will be protective of public health and safety and the environment.

This Standard Review Plan provides the NRC staff with specific guidance on performing reviews of this information and will be used to ensure a consistent quality and uniformity of staff reviews. Each section in the review plan provides guidance on what is to be reviewed, the basis for the review, how the staff review is to be accomplished, what the staff will find acceptable in a demonstration of compliance with the regulations, and the conclusions that are sought regarding the applicable sections in 10 CFR part 40, Appendix A. The Standard Review Plan is also intended to improve the understanding of interested members of the public, and the uranium recovery industry, of the staff review process.

A draft of NUREG-1620 was issued in January 1999 for public comment. A final NUREG-1620, which incorporated NRC staff responses to the comments received on the draft, was issued in June 2000. This draft of NUREG-1620 was developed from the final version of the Standard Review Plan. The issue of a new draft Standard Review Plan was a result of Commission policy decisions affecting uranium recovery issues, which are described in NRC Regulatory Issue Summary 2000 -23, dated November 30, 2000.

Opportunity to Comment: Interested parties are invited to comment on the new draft standard review plan. A final standard review plan will be prepared after the NRC staff has evaluated comments received on the draft standard review plan. Written comments must be received prior to April 22, 2002. Comments on the draft standard review plan should be sent to the Chief, Rules and Directives Branch, U.S. Nuclear Regulatory Commission, Washington, DC 20555-0001.

A copy of the Draft Standard Review Plan (NUREG-1620) may be obtained by writing to the Reproduction and Distribution Services Branch, U.S. Nuclear Regulatory Commission, Washington, DC 20555-0001, or e-mail distribution@nrc.gov.

FOR FURTHER INFORMATION CONTACT: John Lusher @ (301) 415-7694 or jhl@nrc.gov.

Dated at Rockville, Maryland, this 30th day of January, 2002.
For the Nuclear Regulatory Commission.
Melvyn N. Leach,
Chief, Fuel Cycle Licensing Branch, Division of Fuel Cycle Safety, and Safeguards, Office of Nuclear Material Safety and Safeguards.

[FR Doc. 02-2736 Filed 2-4-02; 8:45 am]

BILLING CODE 7590-01-P